DEPARTMENT OF THE INTERIOR

Bureau of Indian Affairs

[AAK6006201 134A2100DD A0R3B3030.999900]

Final Environmental Impact Statement for Proposed Strategies To Benefit Native Species by Reducing the Abundance of Lake Trout in Flathead Lake, Montana

AGENCY: Bureau of Indian Affairs, Interior.

ACTION: Notice of availability.

SUMMARY: This notice advises the public that the Bureau of Indian Affairs (BIA) as lead agency, with the Confederated Salish and Kootenai Tribes (CSKT) as a cooperating agency, intends to file a final environmental impact statement (FEIS) with the Environmental Protection Agency (EPA) for the CSKT proposed management action on Flathead Lake, Montana to benefit native trout by reducing the abundance of lake trout. The notice also announces that the FEIS is now available for public review.

DATES: Any decision on the proposed action will be issued on or after 30 days from the date the EPA publishes its Notice of Availability in the Federal Register. Any comments on the FEIS must arrive on or before that date.

ADDRESSES: Mail or hand carry written comments to Les Evarts, CSKT Fisheries Program Manager, P.O. Box 278, Pablo, MT 59855. See SUPPLEMENTARY INFORMATION for directions on submitting comments and the public availability of the FEIS.

FOR FURTHER INFORMATION CONTACT: Barry Hansen (406) 883-2888.

SUPPLEMENTARY INFORMATION: The BIA and CSKT prepared the FEIS to address the potential environmental effects that increasing the harvest of lake trout in Flathead Lake would have on the biology, fishing opportunity and economy of the area.

The proposed project aims to increase harvest of lake trout beyond the status quo level by authorizing the use of additional harvest tools, including bounties, trapnetting and gillnetting to achieve the goals of the Flathead Lake and River Fisheries Co-Management Plan.

Environmental issues addressed in the FEIS include biological resources (lake trout, bull trout, westslope cutthroat trout, lake whitefish, yellow perch, Mysis and algae); fishing opportunity; and fishing economy. Alternative A is the No Action alternative or status quo, and includes general harvest and fishing contests to achieve a reduction in lake trout abundance. The action alternatives increase the harvest tools to include bounties, commercial fishing, trapnetting and gillnetting, and set specific harvest targets. Alternative B identifies a 25 percent reduction of Age 8 and greater lake trout with a harvest target of 84,000 fish, Alternative C identifies a 50 percent reduction of Age 8 and greater lake trout with a harvest target of 113,000 fish, and Alternative D identifies a 75 percent reduction of Age 8 and greater lake trout with a harvest target of 143,000 fish,

The BIA and CSKT have afforded other government agencies and the public extensive opportunity to participate in the preparation of this EIS. The CSKT held three public scoping meetings in April 2010 in the Polson, Kalispell and Missoula to initiate an Environmental Assessment (EA). During development of the EA, the decision was made to shift to an EIS and a Notice of Intent to prepare the EIS for the proposed action was published in the Federal Register on June 5, 2012 (77 FR 33230). The Notice of Availability for the draft EIS was published in the Federal Register on June 21, 2013 (78 FR 37568). The draft EIS was available for public comment from June 21, 2013 to August 5, 2013. The CSKT held a public hearing on the draft EIS on August 1, 2013, in Pablo, Montana.

Locations where the FEIS is Available for Review: The FEIS is available for public review at the Tribal Fisheries Office, 408 6th Ave. East, Polson, Montana, and an electronic version of the FEIS can also be viewed at the following Web sites: http://www.mackdays.com and at www.flatheadlakeeis.net.

Directions for Submitting Comments: Please include your name, return address, and the caption, “FEIS Comments, Strategies to Benefit native Species by reducing the Abundance of Lake Trout, Flathead Lake, Montana.” on the first page of your written comments and submit comments to the CSKT address listed above in the ADDRESSES section of this notice.

To obtain a compact disk copy of the FEIS, please provide your name and address in writing or by voicemail to Cindy Benson, at the address listed in the ADDRESSES section of this notice, or at the telephone number listed in the FOR FURTHER INFORMATION CONTACT section of this notice.

Public Comment Availability: Comments, including the names and addresses of respondents, will be available for public review at the CSKT mailing address shown in the ADDRESSES section, during regular business hours, 7 a.m. to 5:30 p.m., Monday through Thursday, except holidays. Before including your address, phone number, email address, or other personal identifying information in your comment, you should be aware that your entire comment—including your personal identifying information—may be made publicly available at any time. While you can ask us in your comment to withhold your personal identifying information from public review, we cannot guarantee that we will be able to do so.

Authority: This notice is published in accordance with the Council on Environmental Quality regulations (40 CFR 1500 et seq.) and the Department of the Interior regulations (43 CFR part 46) implementing the procedural requirements of the National Environmental Policy Act of 1969, as amended (42 U.S.C. 4371 et seq.), and is accordance with the exercise of authority delegated to the Assistant Secretary—Indian Affairs by part 209 of the Departmental Manual.

Dated: February 4, 2014.
Kevin K Washburn,
Assistant Secretary—Indian Affairs.

[FR Doc. 2014-03722 Filed 2-20-14; 8:45 am]

BILLING CODE 4310-W7-P